DEPARTMENT OF TRANSPORTATION

Coast Guard

[USCG-2001-8893]

Commercial Fishing Industry Vessel Advisory Committee; Charter Renewal

AGENCY: Coast Guard, DOT.

ACTION: Notice of charter renewal.

SUMMARY: The Secretary of Transportation has renewed the charter for the Commercial Fishing Industry Vessel Advisory Committee (CFIVAC) for 2 years from December 10, 2000 until December 10, 2002. CFIVAC is a Federal advisory committee under 5 U.S.C. App. 2. It advises the Coast Guard on the safety of the commercial fishing industry.

ADDRESSES: You may request a copy of the charter by writing to Commandant (G-MOC-3), U.S. Coast Guard, 2100 Second Street SW., Washington, DC 20593-0001; by calling 202-267-0507; or by faxing 202-267-0506. This notice and the charter are available on the Internet at http://dms.dot.gov.

FOR FURTHER INFORMATION CONTACT: Captain Jon Sarubbi, Executive Director of CFIVAC, or Lieutenant Jennifer Williams, Assistant to the Executive Director, telephone 202-267-0507, fax 202-267-0506.

Dated: February 15, 2001.
Joseph J. Angelo,
Director of Standards.

[FR Doc. 01-4551 Filed 2-22-01; 8:45 am]

BILLING CODE 4910-15-M